DEPARTMENT OF HEALTH AND HUMAN SERVICES

Food and Drug Administration

[Docket No. FDA-2012-N-0012]

Statement of Organization, Functions, and Delegations of Authority

AGENCY: Food and Drug Administration, HHS.

ACTION: Notice of availability.

SUMMARY: The Food and Drug Administration (FDA), Office of Foods has modified its structure and reorganized to the Office of Foods and Veterinary Medicine (OFVM). This new organizational structure was approved by the Secretary of Health and Human Services on July 20, 2012, and implemented on October 1, 2012.

FOR FURTHER INFORMATION CONTACT:

Erik Mettler, Office of Foods and Veterinary Medicine, Food and Drug Administration, 10903 New Hampshire Ave., Silver Spring, MD 20993, 301-796-4500.

SUPPLEMENTARY INFORMATION:

I. Summary

Part D, Chapter D-B (Food and Drug Administration), Statement of Organization, Functions, and Delegations of Authority for the Department of Health and Human Services (35 FR 3685, February 25, 1970; 60 FR 56605, November 9, 1995; 64 FR 36361, July 6, 1999; 72 FR 50112, August 30, 2007; 74 FR 41713, August 18, 2009; and 76 FR 45270, July 28, 2011) is amended in recognition of the fact that most of the work of the Center for Food Safety and Applied Nutrition and the Center for Veterinary Medicine affects the food system as a whole and requires an integrated approach, FDA has modified the Office of Foods structure and reorganized to the OFVM. This reorganization will allow for effective implementation of the new, risk-based mandates of the FDA Food Safety Modernization Act (Pub. L. 111-353) and the demand the law places on FDA for an integrated implementation effort and a systematic approach to risk-based priority setting and resource allocation. This reorganization is explained in Staff Manual Guides 1160.1, 1160.10, 1160.20, 1230.1, and 1241.1.

The Food and Drug Administration, OVFM has been restructured as follows:

DJJ. ORGANIZATION—OVFM is headed by the Deputy Commissioner for Foods and Veterinary Medicine and includes the following organizational units:

Office of Foods and Veterinary Medicine

Communications and Public Engagement Staff

Executive Secretariat Staff

Office of Coordinated Outbreak Response and Evaluation Network

Prevention Staff

Response Staff

Office of Resource Planning and Strategic Management

Strategic Planning and Budget Formulation Staff

Risk Analytics Staff

Center for Food Safety and Applied Nutrition

Center for Veterinary Medicine

II. Delegations of Authority

Pending further delegation, directives, or orders by the Commissioner of Food and Drugs, all delegations and redelegations of authority made to officials and employees of affected organizational components will continue in them or their successors pending further redelegations, provided they are consistent with this reorganization.

III. Electronic Access

Persons interested in seeing the complete Staff Manual Guide can find it on FDA's Web site at: http://www.fda.gov/AboutFDA/ReportsManualsForms/StaffManualGuides/default.htm.

Dated: January 24, 2013.
Leslie Kux,
Assistant Commissioner for Policy.

[FR Doc. 2013-01815 Filed 1-28-13; 8:45 am]

BILLING CODE 4160-01-P